DEPARTMENT OF TRANSPORTATION

Federal Aviation Administration

14 CFR Part 61

[Docket No.: FAA-2018-0811]

Airline Transport Pilot and Type Rating for Airplane Airman Certification Standards

AGENCY: Federal Aviation Administration (FAA), DOT.

ACTION: Notice of document availability and request for comments.

SUMMARY: This document announces the availability of the Airline Transport Pilot (ATP) and Type Rating for Airplane Airman Certification Standards (FAA-S-ACS-11) for public comment.

DATES: Send comments on or before December 21, 2018.

ADDRESSES: Send comments identified by docket number FAA-2018-0811 using any of the following methods:

• Federal eRulemaking Portal: Go to http://www.regulations.gov and follow the online instructions for sending your comments electronically.

• Mail: Send comments to Docket Operations, M-30; U.S. Department of Transportation (DOT), 1200 New Jersey Avenue SE, Room W12-140, West Building Ground Floor, Washington, DC 20590-0001.

• Hand Delivery or Courier: Take comments to Docket Operations in Room W12-140 of the West Building Ground Floor at 1200 New Jersey Avenue SE, Washington, DC, between 9 a.m. and 5 p.m., Monday through Friday, except Federal holidays.

• Fax: Fax comments to Docket Operations at 202-493-2251.

Privacy: We will post all comments without edit including any personal information the commenter provides to www.regulations.gov, as described in the system of records notice (DOT/ALL—14 FDMS) which can be viewed at www.dot.gov/privacy.

Docket: Background documents or comments received may be read at http://www.regulations.gov at any time. Follow the online instructions for accessing the docket or Docket Operations in Room W12-140 of the West Building Ground Floor at 1200 New Jersey Avenue SE, Washington, DC, between 9 a.m. and 5 p.m., Monday through Friday, except Federal holidays.

FOR FURTHER INFORMATION CONTACT: Larry West, Regulatory Support Division, Federal Aviation Administration, FAA Mike Monroney Aeronautical Center, P.O. Box 25082, Oklahoma City, OK 73125; telephone 405-954-4431; email: larry.d.west@faa.gov.

SUPPLEMENTARY INFORMATION:

Authority for This Action

Under 49 U.S.C. 44703(a), the Administrator is required to issue an airman certificate when the Administrator finds, after investigation, that an individual is qualified for, and physically able to perform the duties related to the position authorized by the certificate. Consistent with this authority, the Administrator establishes testing standards to ensure that inspectors and designated examiners conducting practical tests under the Administrator's authority determine that an applicant is qualified for and physically able to perform the duties related to the position authorized by the certificate or rating sought.

Background

The FAA established the Aviation Rulemaking Advisory Committee (ARAC) to provide information, advice, and recommendations on aviation related issues that could result in rulemaking to the Administrator, through the Associate Administrator of Aviation Safety. On December 19, 2013, ARAC accepted the FAA's assignment of a new task to establish an Airman Certification Standards Working Group (ACS WG) to assist in the development of standards, training guidance, test management, and reference materials for airman certification testing. The FAA announced the ARAC's acceptance of this task through a Federal Register Notice published on January 29, 2014 (79 FR 4800). The original task focused on the Private Pilot, Commercial Pilot, ATP, and Authorized Instructor certificates and the Instrument Rating in the airplane category. The task was expanded in February 2016 (81 FR 6099) to include the Aircraft Mechanic certificate with Airframe and/or Powerplant ratings. The task was further expanded in September 2017 to add the Sport Pilot and Recreational Pilot certificates in all airplane categories, and the Private Pilot, Commercial Pilot, ATP, and Instructor certificates and the Instrument rating in the remaining aircraft categories to include rotorcraft, powered-lift, and glider.¹

¹ The ARAC Task Notice is available at: https://www.faa.gov/regulations_policies/rulemaking/committees/documents/index.cfm/document/information/documentID/3282.

On June 21, 2018, the ARAC met and approved the Interim Final Report of the ACS WG. The Interim Final Report contained a recommendation for the Airline Transport Pilot and Type Rating for Airplane (ATP/Type Rating) ACS. The FAA received that recommendation from ARAC on June 22, 2018. The FAA has reviewed the draft ATP/Type Rating ACS, made some changes based on internal feedback, and is now seeking comment from the public. A copy of the document has been placed in the docket for this action. The FAA will review and consider all comments received and make any necessary changes prior to issuing the final version of the ATP/Type Rating ACS. The final version of the ATP/Type Rating ACS will be published at https://www.faa.gov/training_testing/testing/acs/.

Comments Invited

The FAA invites interested persons to join in this notice and comment process by filing written comments, data, or views. The most helpful comments reference a specific portion of the proposal, explain the reason for any recommended change, and include supporting data. To ensure the docket does not contain duplicate comments, commenters should send only one copy of written comments or, if comments are filed electronically, commenters should submit only one time. More information on submitting comments can be found in the ADDRESSES section of this document.

The FAA will review all comments it receives on or before the closing date for the comment period. The FAA will consider comments submitted after the comment period has closed if it is possible to do so without incurring expense or delay. The FAA may make changes based on the comments it receives.

Issued in Washington, DC, on October 16, 2018.
Lirio Liu,
Executive Director, Office of Rulemaking, Federal Aviation Administration.

[FR Doc. 2018-23013 Filed 10-19-18; 8:45 am]

BILLING CODE 4910-13-P